DEPARTMENT OF TRANSPORTATION

Federal Motor Carrier Safety Administration

[Docket No. FMCSA-2013-0026]

Qualification of Drivers; Exemption Applications; Vision

AGENCY: Federal Motor Carrier Safety Administration (FMCSA), DOT.

ACTION: Notice of applications for exemptions; request for comments.

SUMMARY: FMCSA announces receipt of applications from 7 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 16, 2013.

ADDRESSES: You may submit comments bearing the Federal Docket Management System (FDMS) Docket No. FMCSA-2013-0026 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on December 29, 2010 (75 FR 82132), or you may visit http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 7 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Fred Boggs

Mr. Boggs, age 57, has had amblyopia in his left eye since childhood. The visual acuity in his right eye is 20/20, and in his left eye, 20/400. Following an examination in 2012, his optometrist noted, “It is my professional opinion that Mr. Boggs has sufficient vision to operate a commercial vehicle without any concern of restrictions.” Mr. Boggs reported that he has driven straight trucks for 10 years, accumulating 600,000 miles, and tractor-trailer combinations for 10 years, accumulating 600,000 miles. He holds a Class A Commercial Driver's License (CDL) from West Virginia. His driving record for the last 3 years shows no crashes and no convictions for moving violations in a CMV.

James M. Del Sasso

Mr. Del Sasso, 48, has had a macular pucker in his left eye since 2000. The visual acuity in his right eye is 20/20, and in his left eye, 20/150. Following an examination in 2012, his ophthalmologist noted, “He may have possible depth perception issues with driving, or other visually-related tasks, but I feel he should have sufficient vision to perform the driving tasks required to operate a commercial vehicle.” Mr. Del Sasso reported that he has driven straight trucks for 2 years, accumulating 100,000 miles, and tractor-trailer combinations for 19 years, accumulating 1.9 million miles. He holds a Class A CDL from Illinois. His driving record for the last 3 years shows no crashes and one conviction for a moving violation in a CMV; he exceeded the speed limit by 13 mph.

Stephen R. Dykstra

Mr. Dykstra, 58, has had a scarred corneal retinal detachment in his right eye due to a traumatic incident 21 years ago. The best corrected visual acuity in his right eye is hand motion, and in his left eye, 20/30. Following an examination in 2012, his optometrist noted, “Unless driving record would suggest otherwise, I do not feel that this vision impairment would prevent him from being able to perform the driving tasks required to operate a commercial vehicle.” Mr. Dykstra reported that he has driven straight trucks for 5 years, accumulating 40,000 miles, and tractor-trailer combinations for 15 years, accumulating 1.05 million miles. He holds a Class A CDL from Wisconsin. His driving record for the last 3 years shows no crashes and no convictions for moving violations in a CMV.

Troy A. Gray

Mr. Gray, 26, has had amblyopia in his left eye since early childhood. The best corrected visual acuity in his right eye is 20/20, and in his left eye, counting fingers. Following an examination in 2012, his optometrist noted, “I certify that, in my medical opinion, Troy Gray has sufficient vision to perform the driving tasks required to operate a commercial vehicle.” Mr. Gray reported that he has driven straight trucks for 5 years, accumulating 25,000 miles. He holds a chauffeur's license from Michigan. His driving record for the last 3 years shows no crashes and no convictions for moving violations in a CMV.

Darryl W. Hardy

Mr. Hardy, 46, has had toxoplasmosis in his right eye since birth. The best corrected visual acuity in his right eye is 20/400, and in his left eye, 20/20. Following an examination in 2012, his ophthalmologist noted, “In my medical opinion, I certify the Mr. Hardy has sufficient vision to perform the driving tasks required to operate a commercial vehicle.” Mr. Hardy reported that he has driven straight trucks for 7.5 years, accumulating 41,250 miles, and tractor-trailer combinations for 21 years, accumulating 115,500 miles. He holds a Class B CDL from Alabama. His driving record for the last 3 years shows no crashes and no convictions for moving violations in a CMV.

George E. Mulherrin, III

Mr. Mulherrin, 51, has had a prosthetic left eye since childhood. The best corrected visual acuity in his right eye is 20/20, and in his left eye, no light perception. Following an examination in 2013, his ophthalmologist noted, “George E. Mulherrin, III has mononocular visual function using the right eye which is adequate to operate a commercial vehicle.” Mr. Mulherrin reported that he has driven straight trucks for 22 years, accumulating 594 miles. He holds a Class B CDL from Pennsylvania. His driving record for the last 3 years shows no crashes and no convictions for moving violations in a CMV.

Nathan G. Pettis

Mr. Pettis, 33, has had choroidal melanoma in his left eye since 2005. The best corrected visual acuity in his right eye is 20/20, and in his left eye, light perception. Following an examination in 2012, his optometrist noted, “Based on his driving history and the way he has compensated for the vision loss, I am convinced Mr. Pettis, in my medical opinion, can operate a commercial vehicle safely.” Mr. Pettis reported that he has driven straight trucks for 14 years, accumulating 350,000 miles, and tractor-trailer combinations for 14 years, accumulating 770,000 miles. He holds a Class A CDL from Florida. His driving record for the last 3 years shows no crashes and no convictions for moving violations in a CMV.

Request for Comments

In accordance with 49 U.S.C. 31136(e) and 31315, FMCSA requests public comment from all interested persons on the exemption petitions described in this notice. The Agency will consider all comments received before the close of business May 16, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: April 9, 2013.
Larry W. Minor,
Associate Administrator for Policy.

[FR Doc. 2013-08880 Filed 4-15-13; 8:45 am]

BILLING CODE 4910-EX-P